NATIONAL ARCHIVES AND RECORDS ADMINISTRATION

[NARA-2020-022]

Agency Guidance; Portal

AGENCY: National Archives and Records Administration (NARA).

ACTION: Notice of centralized agency guidance portal.

SUMMARY: We are announcing that we have established an online centralized portal that includes information about our guidance and a searchable, indexed listing of, and links to, our guidance documents. The portal, located on our website, does not displace other listings of or links to our guidance documents in topic-specific sections of our website.

DATES: The portal is online beginning February 28, 2020, although we will be refining it and adding existing guidance through the end of May 2020.

ADDRESSES: The portal's URL is archives.gov/guidance.

FOR FURTHER INFORMATION CONTACT: Kimberly Keravuori, Regulatory and External Policy Program Manager, by mail at National Archives and Records Administration, Suite 4100, 8601 Adelphi Road, College Park, MD 20740-6001, or by email at regulation_comments@nara.gov.

SUPPLEMENTARY INFORMATION: Executive Order 13891, and OMB implementing guidance memorandum M-20-02, require Federal agencies to establish an online, centralized, searchable database of their guidance documents, to include certain identifying information, and to provide information on how to comment on open guidance and how to request revisions to the agency's guidance. They also require agencies to publish notice in the Federal Register of the new guidance portal.

Although the E.O. and OMB memorandum primarily discuss guidance affecting the public, OMB has clarified that guidance affecting other agencies must also be included in the portal. Most of our guidance pertains to other Federal agencies, including records management guidance, controlled unclassified information guidance, and classified information guidance, and does not directly affect the public. Agency and other users who already access our guidance through the content-specific sections of our website (such as the records management pages or the CUI pages) may continue to do so. The guidance portal does not replace the information on those pages; it simply pulls the guidance all together in an additional, centralized location.

David S. Ferriero,
Archivist of the United States.

[FR Doc. 2020-04157 Filed 2-27-20; 8:45 am]

BILLING CODE 7515-01-P